DEPARTMENT OF THE INTERIOR

National Park Service

[N6561; NPS-WASO-NAGPRA-NPS0041185; PPWOCRADN0-PCU00RP14.R50000]

Notice of Inventory Completion: Heard Museum, Phoenix, AZ

AGENCY: National Park Service, Interior.

ACTION: Notice.

SUMMARY: In accordance with the Native American Graves Protection and Repatriation Act (NAGPRA), the Heard Museum has completed an inventory of human remains and associated funerary objects and has determined that there is a cultural affiliation between the human remains and associated funerary objects and Indian Tribes or Native Hawaiian organizations in this notice.

DATES: Repatriation of the human remains and associated funerary objects in this notice may occur on or after December 17, 2025.

ADDRESSES: Send written requests for repatriation of the human remains and associated funerary objects in this notice to David Roche, Director/CEO, Heard Museum, 2301 N Central Avenue, Phoenix, AZ 85004, email director@heard.org.

SUPPLEMENTARY INFORMATION: This notice is published as part of the National Park Service's administrative responsibilities under NAGPRA. The determinations in this notice are the sole responsibility of the Heard Museum, and additional information on the determinations in this notice, including the results of consultation, can be found in its inventory or related records. The National Park Service is not responsible for the determinations in this notice.

Abstract of Information Available

Human remains representing, at least, one individual have been identified. The 30 associated funerary objects are ceramic pottery sherds including polychrome fragments, coiled fragments, black-on-white fragments and bones from a large mammal.

Circumstances and date of acquisition unknown. 3288-3: A container with charred bones and ceramic pottery sherds was located and subsequently accessioned during a full collections inventory in 1991. No information was located in the original Heard catalogue. Review in 1992 identified the minimum of one individual as well as bone from a large mammal. Consultation in 2023 determined that further research on pottery type was warranted. Examination of the pottery sherds resulted in the discovery of the words “Verde Valley” labeled on some of the sherds, providing a geographic location. Exposure to hazardous substances is unlikely.

NA-SW-SG-K-2 and NA-SW-SG-A2-1: In 2018 human remains representing at least one individual and 19 associated funerary objects from near Camp Verde in Yavapai County, Arizona, were listed in a Notice of Inventory Completion, published in the Federal Register on September 10, 2018 (83 FR 45674-45675). This notice includes one additional associated funerary object, NA-SW-SG-A1-2, a bowl donated at the same time and found near NA-SW-SG-A2-1 near Camp Verde, Yavapai County, Arizona. Exposure to hazardous substances is unlikely.

Cultural Affiliation

Based on the information available and the results of consultation, cultural affiliation is reasonably identified by the geographical location or acquisition history of the human remains and associated funerary objects described in this notice.

Determinations

The Heard Museum has determined that:

• The human remains described in this notice represent the physical remains of one individual of Native American ancestry.

• The 31 objects described in this notice are reasonably believed to have been placed intentionally with or near individual human remains at the time of death or later as part of the death rite or ceremony.

• There is a connection between the human remains and associated funerary objects described in this notice and the Salt River Pima-Maricopa Indian Community of the Salt River Reservation, Arizona.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 17, 2025. If competing requests for repatriation are received, the Heard Museum must determine the most appropriate requestor prior to repatriation. Requests for joint repatriation of the human remains and associated funerary objects are considered a single request and not competing requests. The Heard Museum is responsible for sending a copy of this notice to the Indian Tribes and Native Hawaiian organizations identified in this notice and any other consulting parties.

Authority: Native American Graves Protection and Repatriation Act, 25 U.S.C. 3003, and the implementing regulations, 43 CFR 10.10.

Dated: September 18, 2025.
Melanie O'Brien,
Manager, National NAGPRA Program.

[FR Doc. 2025-19957 Filed 11-14-25; 8:45 am]

BILLING CODE 4312-52-P